DEPARTMENT OF COMMERCE

International Trade Administration

[A-583-816]

Certain Stainless Steel Butt-Weld Pipe Fittings From Taiwan: Final Results and Final Rescission in Part of Antidumping Duty Administrative Review

AGENCY: Import Administration, International Trade Administration, Department of Commerce.

SUMMARY: On July 7, 2004, the Department of Commerce (“Department”) published in the Federal Register the preliminary results of the administrative review of the order on certain stainless steel butt-weld pipe fittings from Taiwan. See Certain Stainless Steel Butt-Weld Pipe Fittings From Taiwan: Preliminary Results of Antidumping Duty Administrative Review and Notice of Intent To Rescind in Part, 69 FR 40859 (July 7, 2004) (“Preliminary Results”). This review covers one manufacturer/exporter of the subject merchandise. The period of review (“POR”) is June 1, 2002, through May 31, 2003.

We gave interested parties an opportunity to comment on the preliminary results. Based upon our analysis of the comments received, we have made no changes in the margin calculation. Therefore, the final results have not changed from the Preliminary Results of this review. The final weight-averaged dumping margin is listed below in the section titled “Final Results of the Review.”

EFFECTIVE DATE: January 11, 2005.

FOR FURTHER INFORMATION CONTACT: Irene Gorelik or Alex Villanueva, AD/CVD Operations, Office 9, Import Administration, International Trade Administration, U.S. Department of Commerce, 1401 Constitution Avenue, NW., Washington, DC 20230, telephone (202) 482-6905 or (202) 482-3208, respectively, fax (202) 482-9089.

SUPPLEMENTARY INFORMATION:

Background

The Department's preliminary results of review were published on July 7, 2003. See Preliminary Results. We invited parties to comment on the Preliminary Results. We received written comments on August 13, 2004, from Petitioners ¹ and from Ta Chen Stainless Pipe Co., Ltd. (“Ta Chen”) and its wholly owned subsidiary Ta Chen International, Inc. (“TCI”). On August 20, 2004, we received rebuttal comments from Petitioners and Ta Chen. On October 20, 2004, the Department extended the final results of this review by 45 days until December 19, 2003. See Certain Stainless Steel Butt-Weld Pipe Fittings From Taiwan: Extension of Final Results of Antidumping Duty Administrative Review, 69 FR 61649, (October 20, 2004). On December 16, the Department fully extended the final results by the remaining 15 days, or until January 3, 2005. See Certain Stainless Steel Butt-Weld Pipe Fittings from Taiwan: Extension of Final Results of Antidumping Duty Administrative Review, 69 FR 75305, (December 16, 2004). The Department is conducting this administrative review in accordance with section 751 of the Tariff Act of 1930, as amended (“the Act”).

¹ Petitioners in this administrative review are Flowline Division of Markovitz Enterprise, Inc., Shaw Allow Piping Products, Inc., Gerlin, Inc., and Taylor Forge Stainless, Inc.

Scope of the Order

The products subject to this order are certain stainless steel butt-weld pipe fittings, whether finished or unfinished, under 14 inches inside diameter. Certain welded stainless steel butt-weld pipe fittings (“pipe fittings”) are used to connect pipe sections in piping systems where conditions require welded connections. The subject merchandise is used where one or more of the following conditions is a factor in designing the piping system: (1) Corrosion of the piping system will occur if material other than stainless steel is used; (2) contamination of the material in the system by the system itself must be prevented; (3) high temperatures are present; (4) extreme low temperatures are present; and (5) high pressures are contained within the system.

Pipe fittings come in a variety of shapes, with the following five shapes the most basic: “elbows”, “tees”, “reducers”, “stub ends”, and “caps.” The edges of finished pipe fittings are beveled. Threaded, grooved, and bolted fittings are excluded from this review. The pipe fittings subject to this review are classifiable under subheading 7307.23.00 of the Harmonized Tariff Schedule of the United States (“HTSUS”).

Although the HTSUS subheading is provided for convenience and customs purposes, our written description of the scope of this review is dispositive. Pipe fittings manufactured to American Society of Testing and Materials specification A774 are included in the scope of this order.

Partial Rescission of Review

In the Preliminary Results, the Department issued a notice of intent to rescind the review with respect to Liang Feng Stainless Steel Fitting Co., Ltd. (“Liang Feng”), Tru-Flow Industrial Co., Ltd. (“Tru-Flow”), and PFP Taiwan Co., Ltd. (“PFP”) as we found that there were no entries of subject merchandise during the POR. See Preliminary Results at 40861. The Department received comments on this issue concerning Liang Feng and Tru-Flow. However, we continue to find that rescission of the review concerning Liang Feng, Tru-Flow and PFP is appropriate. Therefore, the Department is rescinding the review with respect to Liang Feng, Tru-Flow, and PFP.

Analysis of Comments Received

All issues raised in the case briefs, as well as the Department's findings, in this administrative review are addressed in the Issues and Decision Memorandum for the Administrative Review of Stainless Steel Butt-Weld Pipe Fittings from Taiwan, (“Decision Memorandum”), dated January 3, 2005, which is hereby adopted by this notice. A list of the issues raised and to which we have responded, all of which are in the Decision Memorandum, is attached to this notice as Appendix I. Parties can find a complete discussion of all issues raised in this review and the corresponding recommendations in this public memorandum which is on file at the U.S. Department of Commerce, in the Central Records Unit, in room B-099. In addition, a complete version of the Decision Memorandum can be accessed directly on the Web at www.ia.ita.doc.gov.²

² The paper copy and electronic version of the public version of the Decision Memorandum are identical in content.

Sales Below Cost in the Home Market

As discussed in more detail in the Preliminary Results, the Department disregarded home market below-cost sales that failed the cost test in the final results of review.

Changes Since the Preliminary Results

A list of the issues which parties have raised and to which we have responded, all of which are in the Decision Memorandum, is attached to this notice as Appendix I. Based on our analysis of the comments received, we have made no changes in the margin calculation.

Final Results of the Review

We determine that the following percentage weighted-average margin exists for the period June 1, 2002, through May 31, 2003:

Certain Stainless Steel Butt-Weld Pipe Fittings From Taiwan
Producer/ manufacturer/exporter | Weighted-average margin (percent)
Ta Chen Stainless Pipe Co., Ltd | 5.08

Assessment Rates

The Department will determine, and U.S. Customs and Border Protection (“CBP”) shall assess, antidumping duties on all appropriate entries. In accordance with 19 CFR 351.212(b)(1), we have calculated an importer-specific assessment rate for merchandise subject to this review. The Department will issue appropriate assessment instructions directly to CBP within 15 days of publication of these final results of review. We will direct CBP to assess the resulting assessment rates against the entered customs values for the subject merchandise on each of the importer's entries during the review period. For duty assessment purposes, we calculated importer-specific assessment rates by dividing the dumping margins calculated for each importer by the total entered value of sales for each importer during the POR.

Cash Deposit Requirements

In accordance with section 751(a)(1) of the Act, the following deposit requirements will be effective upon publication of this notice of final results of administrative review for all shipments of certain stainless steel butt-weld pipe fittings from Taiwan entered, or withdrawn from warehouse, for consumption on or after the date of publication: (1) The cash deposit rate for Ta Chen will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers shall continue to be 51.01 percent.

These deposit requirements shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 C.F.R. 351.305. Timely written notification of the return/destruction of APO materials or conversion to judicial protective order is hereby requested. Failure to comply with the regulations and terms of an APO is a violation which is subject to sanction.

We are issuing and publishing this determination and notice in accordance with sections 751(a)(1) and 777(i) of the Act.

Dated: January 3, 2005.
James J. Jochum,
Assistant Secretary for Import Administration.

Appendix I—List of Issues for Discussion

Comment 1: Adverse Facts Available (“AFA”) for the Emerdex Companies ³

³ The Department will address all the Emerdex companies within this comment: Emerdex Stainless Flat Roll Products (“Emerdex 1”), Emerdex Stainless Steel (“Emerdex 2”), Emerdex Group, Inc. (“Emerdex 3”) and Emerdex Shutters (“Emerdex 4”).

Comment 2: Partial AFA for Dragon Stainless Inc. (“Dragon Stainless”) Selling Expenses

Comment 3: Whether To Apply Total AFA for Ta Chen

Comment 4: Constructed Export Price (“CEP”) Offset and Level of Trade (“LOT”)

Comment 5: CEP Profit

Comment 6: Date of Sale for Home and U.S. Market Sales

Comment 7: Overstated Home Market Packing Expenses

Comment 8: Short-Term Borrowing

Comment 9: Total AFA for Liang Feng and Tru-Flow

[FR Doc. E5-62 Filed 1-10-05; 8:45 am]

BILLING CODE 3510-22-P